Memorandum of June 12, 2007

Assignment of Certain Reporting Functions of the John Warner National Defense Authorization Act for Fiscal Year 2007

Memorandum for the Secretary of State[,] Secretary of Defense[, and the] Director of National Intelligence

By virtue of the authority vested in me as President by the Constitution and the laws of the United States, including section 301 of title 3, United States Code, I hereby assign to the Secretary of State the functions of the President under sections 1211(b), 1213(b), and 1226(c) of the John Warner National Defense Authorization Act for Fiscal Year 2007 (Public Law 109-364).

In the performance of such functions, the Secretary of State should coordinate with the Secretary of Defense and the Director of National Intelligence, and the heads of other departments and agencies, as appropriate.

The Secretary of State is authorized and directed to publish this memorandum in the Federal Register.

THE WHITE HOUSE,

Washington, June 12, 2007.

[FR Doc. 07-3139

Filed 6-22-07; 9:57 am]

Billing code 4710-10